DEPARTMENT OF THE INTERIOR

National Park Service

[NPS-WASO-NAGPRA-NPS0027634; PPWOCRADN0-PCU00RP14.R50000]

Notice of Inventory Completion: Thomas Burke Memorial Washington State Museum, University of Washington, Seattle, WA

AGENCY: National Park Service, Interior.

ACTION: Notice.

SUMMARY: The Thomas Burke Memorial Washington State Museum (Burke Museum) has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Burke Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Burke Museum at the address in this notice by May 30, 2019.

ADDRESSES: Peter Lape, Burke Museum, University of Washington, Box 353010, Seattle, WA 98195, telephone (206) 685-3849 Ext. 2, email plape@uw.edu.

SUPPLEMENTARY INFORMATION: Notice is here given in accordance with the Native American Graves Protection and Repatriation Act (NAGPRA), 25 U.S.C. 3003, of the completion of an inventory of human remains under the control of the Thomas Burke Memorial Washington State Museum, University of Washington, Seattle, WA. The human remains were removed from Fort Rock Valley, Lake County, OR.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Burke Museum professional staff in consultation with representatives of the Klamath Tribes.

History and Description of the Remains

In 1978, human remains representing, at minimum, one individual were removed by Dr. Harold G. Bergen from the Bone Weaving Needle Site in Fort Rock Valley, Lake County, OR. This site was designated 35-R by Dr. Bergen. The human remains were held by Dr. Bergen until 1989, when they were accessioned by the Burke Museum (Burke Accn. #1989-57). No known individuals were identified. No associated funerary objects are present.

The Fort Rock Valley area is within the traditional territory of the Yahuskin and Walpapi bands of the Northern Paiute (Ruby et al., 1986), who inhabited the lands around the Goose, Silver, Warner, and Harney Lakes (Swanton, 1968). These lands were ceded in 1864, per the terms of the 1864 Treaty of Klamath Lake with the Klamath and Modoc Tribes and Yahooskin Band of Snake Indians. The Yahuskin and Walpapi bands were assigned to the Klamath Reservation, and relocated there after the treaty was ratified. Based on geographic, ethnographic and archaeological evidence, the human remains have been culturally affiliated with the Yahuskin and Walpapi bands, who are represented today by the Klamath Tribes.

Determinations Made by the Burke Museum

Officials of the Burke Museum have determined that:

• Pursuant to 25 U.S.C. 3001(9), the human remains described in this notice represent the physical remains of one individual of Native American ancestry.

• Pursuant to 25 U.S.C. 3001(2), there is a relationship of shared group identity that can be reasonably traced between the Native American human remains and the Klamath Tribes.

Additional Requestors and Disposition

Lineal descendants or representatives of any Indian Tribe or Native Hawaiian organization not identified in this notice that wish to request transfer of control of these human remains should submit a written request with information in support of the request to Peter Lape, Burke Museum, University of Washington, Box 353010, Seattle, WA 98195, telephone (206) 685-3849 Ext. 2, email plape@uw.edu, by May 30, 2019. After that date, if no additional requestors have come forward, transfer of control of the human remains to the Klamath Tribes may proceed.

The Burke Museum is responsible for notifying the Klamath Tribes that this notice has been published.

Dated: April 4, 2019.
Melanie O'Brien,
Manager, National NAGPRA Program.

[FR Doc. 2019-08740 Filed 4-29-19; 8:45 am]

BILLING CODE 4312-52-P